DEPARTMENT OF THE INTERIOR

Bureau of Reclamation

Correction; Central Valley Project Improvement Act, Standard Criteria for Agricultural and Urban Water Management Plans

AGENCY: Bureau of Reclamation, Interior.

ACTION: Notice of correction.

SUMMARY: On March 25, 2011, the Bureau of Reclamation published a notice in the Federal Register at 76 FR 16818 on the Central Valley Project Improvement Act Standard Criteria for Agricultural and Urban Water Management Plans. In the SUPPLEMENTARY INFORMATION section, the Web site in which to view copies of the finalized Criteria was incorrect. It should read: http://www.usbr.gov/mp.watershare/news/2011_standard_criteria.pdf.

FOR FURTHER INFORMATION CONTACT: Ms. Melissa Crandell, Bureau of Reclamation, 2800 Cottage Way, MP-410, Sacramento, California 95825, 916-978-5208, or e-mail at mcrandell@usbr.gov.

Richard J. Woodley,
Regional Resources Manager, Mid-Pacific Region.

[FR Doc. 2011-7870 Filed 4-1-11; 8:45 am]

BILLING CODE 4310-MN-M